DEPARTMENT OF VETERANS AFFAIRS

Enhanced-Use Lease of VA Property, Chicago (Lakeside), IL

AGENCY: Department of Veterans Affairs.

ACTION: Notice of intent to enter into an enhanced-use lease.

SUMMARY: The Secretary of the Department of Veterans Affairs (VA) intends to enter into an enhanced-use lease of approximately 3.8 acres known as VA's Lakeside property in Chicago, Illinois (“Lakeside”). The Department proposes to enter into a long-term (up to 75 years) lease with a competitively selected lessee that would bear full financial and legal responsibility to redevelop the property into a modern health care campus, at no cost to VA. VA would use the consideration from the proposed lease to improve health care services and facilities for veterans. Under other terms of the proposed lease, VA could continue to use the hospital property to provide health care and services to veterans until December 31, 2007.

FOR FURTHER INFORMATION CONTACT: Brian A. McDaniel, Office of Asset Enterprise Management (004B), Department of Veterans Affairs, 810 Vermont Avenue, NW., Washington, DC 20420, (202) 273-9492.

SUPPLEMENTARY INFORMATION: 38 U.S.C. 8161 et seq., specifically provides that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: November 15, 2004.
Anthony J. Principi,
Secretary of Veterans Affairs.

[FR Doc. 04-25915 Filed 11-22-04; 8:45 am]

BILLING CODE 8320-01-P